DEPARTMENT OF DEFENSE

Office of the Secretary

Defense Science Board

AGENCY: Department of Defense.

ACTION: Notice of advisory committee meeting cancellations.

SUMMARY: The Defense Science Board Task Force on Enabling Joint Force Capabilities meeting scheduled for September 22, 2003, was canceled due to Hurricane Isabel. The follow-on meeting on September 29, 2003, has also been canceled.

Dated: September 22, 2003.
Patricia L. Toppings,
Alternate OSD Federal Register Liaison Officer, Department of Defense.

[FR Doc. 03-24442 Filed 9-26-03; 8:45 am]

BILLING CODE 5001-08-M